DEPARTMENT OF COMMERCE

International Trade Administration

[A-570-892]

Carbazole Violet Pigment 23 From the People's Republic of China: Rescission of Antidumping Duty Administrative Review; 2012-2013

AGENCY: Enforcement and Compliance, International Trade Administration, Department of Commerce.

SUMMARY: The Department of Commerce (the Department) is rescinding the administrative review of the antidumping duty order on carbazole violet pigment 23 (CVP-23) from the People's Republic of China (the PRC) covering the period of review of December 1, 2012 through November 30, 2013.

DATES: Effective Date: May 21, 2014.

FOR FURTHER INFORMATION CONTACT: Davina Friedmann or Robert James, AD/CVD Operations Office VI, Enforcement and Compliance, International Trade Administration, U.S. Department of Commerce, 14th Street and Constitution Avenue NW., Washington, DC 20230; telephone (202) 482-0698 or (202) 482-0649, respectively.

SUPPLEMENTARY INFORMATION: On February 3, 2013, based on a timely request by Nation Ford Chemical Company, Inc. (petitioner), the Department published in the Federal Register a notice of initiation of an administrative review of the antidumping duty order on CVP-23 from the PRC covering the period December 1, 2012 through November 30, 2013.¹ The review covers three firms: Haimen Ruifeng Pigment Co. Ltd. (Ruifeng), Jiangsu Haimen Industrial Chemicals Factory (Haimen), and Nantong Haidi Chemicals Co., Ltd. (Haidi). On May 2, 2014, petitioners withdrew their request for review of all three firms, i.e., Ruifeng, Haimen and Haidi.

¹ See Initiation of Antidumping Duty and Countervailing Duty Administrative Reviews, and Request for Revocation in Part, 79 FR 6147 (February 3, 2014).

Rescission of Review

Pursuant to 19 CFR 351.213(d)(1), the Department will rescind an administrative review if the party that requested the review withdraws its request within 90 days of the date of publication of the notice of initiation of the requested review. Petitioners withdrew their request within the 90-day deadline.² No other party requested an administrative review of this antidumping duty order. As a result, we are rescinding the administrative review of CVP-23 from the PRC for the period December 1, 2012 through November 30, 2013.

² The 90-day deadline fell on Sunday, May 4, 2014; therefore, petitioners had until the next business day, or Monday, May 5, 2014, to withdraw their request for review. See Notice of Clarification: Application of “Next Business Day” Rule for Administrative Determination Deadlines Pursuant to the Tariff Act of 1930, As Amended, 70 FR 24533 (May 10, 2005).

Assessment

The Department will instruct U.S. Customs and Border Patrol (CBP) to assess antidumping duties on all appropriate entries. Because the Department is rescinding this review in its entirety, the entries to which this administrative review pertained shall be assessed antidumping duties at rates equal to the cash deposit of estimated antidumping duties required at the time of entry, or withdrawal from warehouse, for consumption, in accordance with 19 CFR 351.212(c)(1)(i). The Department intends to issue appropriate assessment instructions to CBP 15 days after the publication of this notice.

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a final reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(l) of the Tariff Act of 1930, as amended, and 19 CFR 351.213(d)(4).

Dated: May 15, 2014.
Christian Marsh,
Deputy Assistant Secretary for Antidumping and Countervailing Duty Operations.

[FR Doc. 2014-11815 Filed 5-20-14; 8:45 am]

BILLING CODE 3510-DS-P